DEPARTMENT OF THE INTERIOR

Fish and Wildlife Service

[FWS-R5-R-2008-N0190; 50133-1265-WPCP-S3]

Wapack National Wildlife Refuge, Hillsborough County, NH

AGENCY: Fish and Wildlife Service, Interior.

ACTION: Notice of availability: final comprehensive conservation plan and finding of no significant impact for environmental assessment.

SUMMARY: We, the U.S. Fish and Wildlife Service (Service), announce the availability of our final comprehensive conservation plan (CCP) and finding of no significant impact (FONSI) for the environmental assessment (EA) for Wapack National Wildlife Refuge (NWR). In this final CCP, we describe how we will manage the refuge for the next 15 years.

ADDRESSES: You may view or obtain copies of the final CCP and FONSI by any of the following methods. You may request a hard copy or CD-ROM. Agency Web Site: Download a copy of the document(s) at http://library.fws.gov/ccps/wapack/.

E-mail: fw5rw_prnwr@fws.gov. Please include “Wapack NWR CCP” in the subject line of the message.

Mail: Parker River National Wildlife Refuge, 6 Plum Island Turnpike, Newburyport, MA 01950.

In-Person Viewing or Pickup: Call 978-465-5753 to make an appointment during regular business hours at Parker River NWR headquarters. The final document is also available at the library listed under SUPPLEMENTARY INFORMATION, below.

FOR FURTHER INFORMATION CONTACT: Graham Taylor, Refuge Manager, Parker River NWR; phone number 978-465-5753; e-mail address: fw5rw_prnwr@fws.gov.

SUPPLEMENTARY INFORMATION:

Introduction

With this notice, we finalize the CCP process for Wapack NWR. We started by publishing a notice of intent in the Federal Register (72 FR 8197; February 23, 2007). For more about the process, see that notice. We announced the release of the draft CCP/EA to the public and requested their comments in a notice of availability in the Federal Register (73 FR 15769; March 25, 2008).

Wapack NWR, at 1,625 acres, was established by donation in 1972 as the first national wildlife refuge in New Hampshire. Its purpose is for migratory birds. It is administered by the staff of the Parker River NWR, headquartered in Newburyport, Massachusetts. The refuge encompasses the 2,278-foot North Pack Monadnock Mountain in the towns of Greenfield and Temple, New Hampshire. The terms of the deed of donation require the Service to manage the refuge in a “wilderness-like” setting for wildlife. Specific deed restrictions prohibit motorized vehicles, hunting and fishing, trapping, or cutting trees.

Mature northern hardwood-mixed and spruce-fir forest characterizes the refuge. It provides nesting habitat for many migratory songbirds such as the black-capped chickadee, blackburnian warbler, black-throated blue warbler, hermit thrush, myrtle warbler, ovenbird, and red-eyed vireo. The refuge also supports a wide variety of other native wildlife, including deer, bear, coyote, fisher, fox, mink and weasel.

Visitors engage in wildlife observation and photography on the refuge. It is especially popular for viewing the fall migration of hawks. A 4-mile segment of the 21-mile Wapack Trail traverses the refuge, and rewards hikers with a beautiful view of the surrounding mountains. Three other trails also offer quality opportunities for viewing and photographing wildlife.

We are announcing our decision and the availability of the FONSI and final CCP for Wapack NWR in accordance with the requirements of the National Environmental Policy Act (40 CFR 1506.6(b)). We completed a thorough analysis of effects on the human environment, which we included in the draft CCP/EA.

The final CCP will guide us in managing and administering Wapack NWR for the next 15 years. Alternative B, which we described in the draft CCP/EA as the Service-preferred alternative, is the foundation for the final CCP.

Background

The National Wildlife Refuge System Improvement Act of 1997 (16 U.S.C. 668dd-668ee) (Improvement Act), which amends the National Wildlife Refuge System Administration Act of 1966, requires us to develop a CCP for each national wildlife refuge. The purpose for developing a CCP is to provide refuge managers with a 15-year plan for achieving refuge purposes and contributing to the mission of the National Wildlife Refuge System, in a manner consistent with the sound principles of fish and wildlife management, conservation science, legal mandates, and our policies. In addition to outlining broad management direction on conserving wildlife and their habitats, CCPs identify opportunities for wildlife-dependent recreation available to the public, including hunting, fishing, wildlife observation and photography, and environmental education and interpretation. We will review and update each CCP at least every 15 years, in accordance with the Improvement Act.

CCP Alternatives, Including Alternative B, the Selected Alternative

Our draft CCP/EA (73 FR 15769) identified and addressed several issues in its chapter 1, “The Purpose of and Need for Action.” In that document, we developed two alternatives to respond to those issues. Alternative A represented current management. Alternative B was identified as the Service-preferred alternative for several reasons. It included an array of management actions that, in our professional judgment, worked best toward achieving the purpose of the refuge, our vision and goals for those lands, and goals in State and regional conservation plans. In our opinion, alternative B most effectively addressed the key issues.

The planning team recommended alternative B to the Regional Director as the better alternative for managing this refuge over the next 15 years. He selected it for the final CCP.

Implementing the CCP will improve our knowledge of refuge resources and start the development of a baseline biological database. We plan to inventory populations of plants and wildlife on the refuge in partnership with the U.S. Forest Service. That project will also help us identify and monitor threats to the integrity of refuge habitats.

Other projects in the CCP will enhance visitor programs by expanding our partnerships with other Federal agencies, State agencies, town departments, local conservation organizations, and individuals. Partners will assist us in maintaining trails, developing and maintaining a new trailhead parking area, and increasing our presence and visibility on the refuge and in the local community. One of our goals is to better communicate refuge opportunities, visitor and contact information, and regulations.

We will allow only compatible activities that are consistent with a “wilderness-like” setting and adhere to other deed restrictions. The new activities we will allow include dog-walking only on leash, recreational berry-picking, and the annual Wapack Trail Run, under the stipulations of our determination of its compatibility.

We do not propose to expand the refuge. However, we will offer our support in identifying unprotected lands of high wildlife value to partners engaged in other regional land conservation and protection. We also will offer our technical assistance in managing those lands.

Comments

We solicited comments on the draft CCP/EA for Wapack NWR from March 25, 2008 to May 1, 2008 (73 FR 15769). We held a public meeting in Peterborough, New Hampshire, on April 17, 2008. We evaluated all comments received during the public comment period, and included our responses to those comments in appendix F of the final CCP.

Selected Alternative

The Regional Director selected alternative B for implementation. The following key changes were made between draft and final plans.

• We found compatible the annual Wapack Trail Race, with certain stipulations identified in its compatibility determination (refer to CCP appendix A).

• The staff of Parker River NWR in Newburyport, Massachusetts, now administers the unstaffed Wapack NWR; it is no longer administered from Great Bay NWR.

Public Availability of Documents

In addition to the methods in ADDRESSES above, you can view or obtain documents at the Peterborough, New Hampshire, Town Library, at 2 Concord Street, Peterborough, New Hampshire, during regular library hours.

Dated: November 19, 2008.
Thomas J. Healy,
Acting Regional Director, U.S. Fish and Wildlife Service, Hadley, MA 01035.

[FR Doc. E8-29436 Filed 12-16-08; 8:45 am]

BILLING CODE 4310-55-P